DEPARTMENT OF LABOR

Employment and Training Administration

Indian and Native American Welfare-to-Work Grant Program; Proposed Collection; Comment Request

AGENCY: Employment and Training Administration, Labor.

ACTION: Notice.

SUMMARY: The Department of Labor, as part of its continuing effort to reduce paperwork and respondent burden, conducts a preclearance consultation process to provide the general public and Federal agencies with an opportunity to comment on proposed and/or continuing collections of information in accordance with the Paperwork Reduction Act of 1995 (PRA95) [44 U.S.C. 3506(c)(2)(A)]. This process helps to ensure that requested data can be provided in the desired format, reporting burdens are minimized, collection instruments are clearly understood, and the impact of collection requirements on respondents can be properly assessed. Currently, the Employment and Training Administration (ETA) is soliciting comments concerning the reinstatement of the previously-approved reporting system for the Indian and Native American Welfare-to-Work (INA WtW) Grant Program for three more years (October 1, 2001 to September 30, 2004), or until the expiration of the program if sooner. A copy of the previously-approved information collection request (ICR), especially the reporting forms and completion instructions, can be obtained by contacting the office listed below in the address section of this notice.

DATES: Written comments must be submitted to the office listed in the addresses section below on or before April 21, 2003.

ADDRESSES: James C. DeLuca, Chief, Division of Indian and Native American Programs, Employment and Training Administration, U.S. Department of Labor, Room N-4641, 200 Constitution Avenue, NW., Washington, DC 20210. Telephone: (202) 693-3754 (VOICE) or (202) 693-3818 (FAX) (these are not toll-free numbers) or Internet: jdeluca@doleta.gov.

SUPPLEMENTARY INFORMATION: I. Background: The Employment and Training Administration of the Department of Labor is requesting reinstatement of its previously-approved reporting system for the Indian and Native American Welfare-to-Work Grant Program for three more years (October 1, 2001 to September 30, 2004), or until the program expires. Current statutory authorization for the INA WtW program has technically expired, but grantees can continue to expend funds for up to five years “after the date the funds are so provided.” However, no current grantee may expend FY 1999 INA WtW funds after September 30, 2004. As a result of the statutory program amendments of 1999 and 2000, the Department has decided that the reporting system requires only relatively minor changes at this time.

II. Review Focus: The Department of Labor is particularly interested in comments which:

• Evaluate whether the proposed collection of information is necessary for the proper performance of the functions of the agency, including whether the information will have practical utility;

• Evaluate the accuracy of the agency's burden estimate for the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions: The proposed renewal of this ICR will be a continuation of the previously-approved system that will be used by the approximately 34 different INA WtW grantees operating some forty (40) grants that have FY 1998 or FY 1999 funds remaining. It will be the primary reporting vehicle for enrolled individuals, their characteristics, training and services provided, outcomes, including job placement and wage data, as well as detailed financial data on program expenditures. The previously-approved paperwork burdens are covered under OMB Clearance No. 1205-0386 (expiration date 09/30/2001). However, because of the significant reduction in the number of grantees still operating INA WtW programs, those burden estimates have not been included in the following burden estimates. For ease of analysis, the following burden estimate is broken down into the two main components of INA WtW program operation: (1) Recordkeeping; and (2) reporting.

Type of Review: Reinstatement.

Agency: Employment and Training Administration.

Title: Reporting system for Indian and Native American Welfare-to-Work Grant Program.

OMB Number: 1205-0386.

Catalog of Federal Domestic Assistance Number: 17.254.

Recordkeeping Requirements: Grantees shall retain supporting and other documents necessary for the compilation and submission of the subject reports for three years after submission of the final financial report for the grant in question [29 CFR 97.42 and/or 29 CFR 95.53].

Affected Public: Federally-recognized tribes, Alaska Native regional non-profit corporations, and/or consortia of any of the above.

Total Estimated Burden: 2,880 hours (reporting); 19,800 hours (recordkeeping) Detailed breakdown of the above-estimated burden hour requirements for the INA WtW program are as follows: (It should be noted that the FY 1998 and FY 1999 INA WtW grants are funded separately, by law. Therefore, even though some grantees are still operating both programs, these burden estimates are done as if the tribe were two separate entities, since the two grants must be reported upon separately and separate records must be kept on expenditures and participants.)

Required activity | INA WtW form no. | # of respondents | Responses per year | Total responses | Hours per response | Total burden hrs.
Participant Recordkeeping |  | 40 |  | 6,600 | 3.00 | 19,800
(Reporting) Financial Status Report | ETA 9069-1 | 40 | 4 | 160 | 9 | 1,440
Participation and Characteristics Rpt | ETA 9069 | 40 | 4 | 160 | 9 | 1,440
Totals |  | 40 | 8 | 6,920 | 21 | 22,680

Note: Recordkeeping estimates are based on the estimated current INA WtW caseload times an estimated average of 3.00 hours per participant record. This is currently the approximate experience with actual INA WtW performance. Also, this burden estimate does not include those INA WtW grantees participating in the demonstration under Public Law 102-477. Any INA WtW burden estimate(s) for “477 grantees” would be included under the Bureau of Indian Affairs' OMB Clearance Number 1076-0135. The individual time per response (whether plan, record, or report) varies widely depending on the degree of automation attained by individual grantees. Grantees also vary according to the numbers of individuals served in each fiscal year. If the grantee has a fully-developed and automated MIS, the response time is limited to one-time programming plus processing time for each response. It is the Department's desire to see as many INA WtW grantees as possible become computerized, so that response time for planning and reporting will eventually sift down to an irreducible minimum with an absolute minimum of human intervention.

Estimated Grantee Burden Costs

(There are no capital/start-up costs involved in any INA WtW activities)

Recordkeeping: 19,800 hours times an estimated cost per grantee hour of $20.00 (including fringes) = $396,000.

Reporting: 2,880 hours times $20.00 = $57,600 per year.

Total estimated burden costs: $401,760 (nationwide).

As noted, these costs will vary widely among grantees, from nearly no additional cost to some higher figure, depending on the state of automation attained by each grantee and the wages paid to the staff actually completing the various forms. All costs associated with the required submissions outlined above, whether for recordkeeping or reporting purposes, are allowable grant expenses. Comments submitted in response to this comment request will be summarized and/or included in the request for Office of Management and Budget continuation of the information collection request; they will also become a matter of public record.

Signed at Washington, DC, this 11th day of February, 2003.
Emily Stover DeRocco,
Assistant Secretary for Employment and Training Administration.

[FR Doc. 03-3923 Filed 2-18-03; 8:45 am]

BILLING CODE 4510-30-P